SECURITIES AND EXCHANGE COMMISSION

[Release No. 34-53952A; File No. SR-NYSE Arca-2006-21]

Self-Regulatory Organizations; NYSE Arca, Inc.; Notice of Filing of Proposed Rule Change Relating to Approval of Market Data Fees for NYSE Arca Data

June 20, 2006.

Correction

In FR Document No. 06-5300 beginning on page 33496 for Friday, June 9, 2006, the 34 Release number was incorrectly stated. The correct number is 34-53952.

Nancy M. Morris,
Secretary.

[FR Doc. 06-5641 Filed 6-16-06; 8:45 am]

BILLING CODE 8010-01-M